DEPARTMENT OF THE TREASURY

Submission for OMB Review; Comment Request

June 30, 2015.

The Department of the Treasury will submit the following information collection request to the Office of Management and Budget (OMB) for review and clearance in accordance with the Paperwork Reduction Act of 1995, Public Law 104-13, on or after the date of publication of this notice.

DATES: Comments should be received on or before August 6, 2015 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Community Development Financial Institutions (CDFI) Fund

OMB Number: 1559-NEW.

Type of Review: Approval of a New Information Collection.

Title: Bank Enterprise Award Program Evaluation.

Abstract: The Bank Enterprise Award (BEA) Program is designed to support the CDFI Fund's overall mission to increase economic opportunity and provide community development investments in underserved populations and distressed communities within the United States.

This evaluation will assist the CDFI Fund to determine the effectiveness of the BEA Program. This online survey will evaluate the population of FDIC-insured financial institutions that applied for Bank Enterprise Awards during calendar years 2012, 2013 or 2014 (including award recipients and unsuccessful applicants).

Affected Public: Private Sector: Businesses or other for-profits.

Estimated Total Burden Hours: 65.

Robert Dahl,
Treasury PRA Clearance Officer.

[FR Doc. 2015-16533 Filed 7-6-15; 8:45 am]

BILLING CODE 4810-70-P